DEPARTMENT OF AGRICULTURE

Forest Service

Grays Harbor Resource Advisory Committee (RAC)

AGENCY: Forest Service, USDA.

ACTION: Notice of meeting.

SUMMARY: The Grays Harbor Resource Advisory Committee will hold its next meeting on May 8, 2003. The meeting will be held at the Aberdeen Timberland Library, 121 E Market Street, Aberdeen, Washington. The meeting will begin at 6:30 p.m. and end at 8:30 p.m. Agenda topics are: Approval of minutes of previous meeting; Update on Title II Projects; Presentation of FY 2003 Title II project proposals; Selection of recommended projects and priorities; Public comments; and Identify next meeting date and location.

All Grays Harbor Resource Advisory Committee Meetings are open to the public. Interested citizens are encouraged to attend.

FOR FURTHER INFORMATION CONTACT: Direct questions regarding this meeting to Ken Eldredge, RAC Liaison, USDA, Olympic National Forest Headquarters, 1835 Black Lake Blvd., Olympia, WA 98512-5623, (360) 956-2323 or Dale Hom, Forest Supervisor and Designated Federal Official, at (306) 956-2301.

Dated: April 3, 2003.
Dale Hom,
Forest Supervisor, Olympic National Forest.

[FR Doc. 03-8616 Filed 4-8-03; 8:45 am]

BILLING CODE 3410-11-M